NUCLEAR REGULATORY COMMISSION

[Docket Nos.: 52-018 and 52-019; NRC-2008-0170]

Duke Energy Carolina, LLC; William States Lee III Combined License Application; Notice of Intent To Conduct a Supplemental Scoping Process for the Supplement to the Environmental Report

Duke Energy Carolinas, LLC (Duke) submitted an application for combined licenses (COL) for its William States Lee III Nuclear Station (Lee) site to build Units 1 and 2, located in the eastern portion of Cherokee County, South Carolina, approximately 7.5 miles southeast of Gaffney, South Carolina. The application for the COL, including an environmental report (ER), was submitted by letter dated December 12, 2007, pursuant to the requirements of Title 10 of the Code of Federal Regulations (10 CFR) part 52. A notice of intent to prepare an environmental impact statement (EIS) in support of the review of the COL application and to conduct scoping was published in the Federal Register on March 20, 2008 (73 FR 15009). Duke submitted a supplement to its ER by letter dated September 24, 2009, which describes Duke's plans to construct an additional source of supplemental water to be designated as Make-Up Pond C.

The U.S. Nuclear Regulatory Commission (NRC) is the lead agency in preparing the EIS and the U.S. Army Corps of Engineers (USACE) is a cooperating agency, as described in the Memorandum of Understanding established with the NRC and USACE (ML082540354) and in NRC's response to the USACE's request to become a cooperating agency (ML090700384).

The purpose of this notice is to inform the public that the NRC and the USACE are providing the public an additional opportunity to participate in the environmental scoping process, as described in 10 CFR 51.29, pertaining to the addition of Make-Up Pond C. The supplemental scoping opportunity affords the public an occasion to provide comments concerning the supplemental information that was not available during the initial scoping process in 2008 (73 FR 15009).

In accordance with 10 CFR 51.45 and 51.50, Duke submitted a supplement to its ER as part of its COL application. The supplement to the ER is available for public inspection at the NRC Public Document Room (PDR), located at One White Flint North, 11555 Rockville Pike (first floor), Rockville, Maryland, or from the Publicly Available Records component of the NRC's Agencywide Documents Access and Management System (ADAMS). ADAMS is accessible at http://www.nrc.gov/reading-rm/adams.html, which provides access through the NRC's Electronic Reading Room (ERR) link. The ADAMS accession number for the supplement to the ER, submitted by letter dated September 24, 2009, is ML092810257. Persons who do not have access to ADAMS or who encounter problems in accessing the documents located in ADAMS should contact the NRC's PDR Reference staff at 1-800-397-4209 or 301-415-4737, or by sending an e-mail to pdr.resource@nrc.gov. The supplement to the ER may also be viewed on the Internet at http://www.nrc.gov/reactors/new-licensing/col/lee.html. In addition, the Cherokee County Public Library, 300 E. Rutledge Avenue, Gaffney, South Carolina 29340, has agreed to make the supplement to the ER available for public inspection.

This notice advises the public that the NRC and USACE intend to gather information pertaining to the supplement to the ER and to include this information in the EIS to be prepared in support of the review of the Duke COL application. Possible alternatives to the proposed action (issuance of the COL at the Lee site) include no action and consideration of alternative sites. As set forth in 10 CFR 51.20(b)(2), the issuance of a COL under Part 52 is an action that requires an EIS. This notice is being published in accordance with the National Environmental Policy Act of 1969, as amended, (NEPA) and NRC regulations found in 10 CFR Part 51.

The NRC and USACE will first conduct a scoping process on the supplement to the ER, and, as soon as practicable thereafter, will prepare a draft EIS in support of the review of the Duke COL application for public comment. Participation in the supplemental scoping process by members of the public and local State, Tribal, and Federal government agencies is encouraged. The supplemental scoping opportunity will be used to accomplish the following:

a. Determine how the supplemental information on Make-Up Pond C impacts the scope of the EIS and identify the significant issues regarding Make-Up Pond C to be analyzed in depth;

b. Identify and eliminate from detailed study those issues that are peripheral or that are not significant as they pertain to Make-Up Pond C;

c. Identify any environmental assessments and other EISs that are being or will be prepared that are related to the supplemental information on Make-Up Pond C, but are not part of the scope of the EIS being considered;

d. Identify other environmental review and consultation requirements related to the supplemental information on Make-Up Pond C and the USACE;

e. Identify parties consulting with the NRC and the USACE under the National Historic Preservation Act of 1966 (NHPA), as set forth in 36 CFR 800.8(c)(1)(i);

f. Identify any additional cooperating agencies and, as appropriate, allocate assignments for preparation and schedules for completing the EIS to the NRC, USACE, and any additional cooperating agencies; and

g. Describe how the EIS preparation will include the supplemental information on Make-Up Pond C and any contractor assistance to be used.

The NRC and the USACE invite the following entities to participate in the supplemental scoping process:

a. The applicant, Duke Energy;

b. Any Federal agency that has jurisdiction by law or special expertise with respect to any environmental impact involved or that is authorized to develop and enforce relevant environmental standards;

c. Affected State and local government agencies, including those authorized to develop and enforce relevant environmental standards;

d. Any affected Indian tribe; and

e. Any person who requests or has requested an opportunity to participate in the supplemental scoping process.

In accordance with 10 CFR 51.26, the scoping process for an EIS may include a public scoping meeting to help identify significant issues related to a proposed activity and to determine the scope of issues to be addressed in an EIS. The NRC and the USACE will hold an additional public scoping meeting for the EIS to gather comments on the supplement to the ER submitted for the Duke COL application. The scoping meeting is scheduled for Thursday, June 17, 2010, at Restoration Church International, 1905 N. Limestone Street, Gaffney, South Carolina 29340. The meeting will convene at 7:00 p.m. and will continue until approximately 10 p.m. The meeting will be transcribed and will include: (1) An overview by the NRC and USACE staff of the NEPA environmental review process, and (2) the opportunity for interested government agencies, organizations, and individuals to submit comments or suggestions on the environmental issues or the proposed scope of the EIS as it pertains to the additional source of make-up water described in the supplement to the ER. Additionally, the NRC and USACE staff will host informal discussions from 6 p.m. to 7 p.m. before the start of the meeting at Restoration Church International. No formal comments will be accepted during the informal discussions. To be considered, comments must be provided either at the transcribed public meeting or in writing, as discussed below.

Persons may register to attend or present oral comments at the meeting on the scope of the NEPA review by contacting Ms. Sarah Lopas at 1-800-368-5642, extension 1147, or via e-mail to the NRC at Lee.COLAEIS@nrc.gov, no later than June 14, 2010.

Members of the public may also register to speak at the open house prior to the start of the meeting. Individual oral comments may be limited by the time available, depending on the number of persons who register. Members of the public who have not registered may also have an opportunity to speak, if time permits. Public comments on the supplement to the ER will be considered in the supplemental scoping process for the EIS. Ms. Sarah Lopas will need to be contacted no later than June 4, 2010, if special equipment or accommodations are needed to attend or present information at the public meeting, so that the NRC staff can determine whether the request can be accommodated.

Members of the public may send written comments on the supplement to the ER to the Chief, Rules, Announcements, and Directives Branch, Division of Administrative Services, Office of Administration, Mailstop TWB-05-B01M, U.S. Nuclear Regulatory Commission, Washington, DC 20555-0001, and should cite the publication date and page number of this Federal Register notice. To ensure that comments are considered in the supplemental scoping process, written comments must be post-marked or delivered by the end of the supplemental scoping comment period, which is July 2, 2010. Electronic comments may be sent via the Internet to the NRC at Lee.COLAEIS@nrc.gov. Electronic submissions must be sent no later than July 2, 2010, to ensure that they will be considered in the supplemental scoping process. Comments will be available electronically and accessible through the NRC's ERR link at http://www.nrc.gov/readingrm/adams.html. The NRC staff may consider comments submitted after the end of the comment period, as time and resources permit. Participation in the supplemental scoping process does not entitle participants to become parties to the proceeding to which the EIS relates. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

At the conclusion of the supplemental scoping process, the NRC staff will prepare a concise summary of the determination and conclusions reached on the scope of the environmental review for the supplemental information on Make-Up Pond C, including the significant issues identified, and will send a copy of the summary to each participant in the supplemental scoping process for whom the staff has an address. The summary will also be available for inspection through the NRC's ERR link. The staff will then prepare and issue for comment the draft EIS, which will be the subject of separate Federal Register notices and a separate public meeting. Copies of the draft EIS will be available for public inspection at the above-mentioned address, and one copy per request will be provided free of charge. After receipt and consideration of the comments on the draft EIS, the NRC staff will prepare a final EIS, which will also be available for public inspection.

Information about the proposed EIS and the scoping process may be obtained from Ms. Sarah Lopas at 1-800-368-5642, extension 1147.

Dated at Rockville, Maryland, this 18th day of May 2010.
For the Nuclear Regulatory Commission.
Barry Zalcman,
Acting Director, Division of Site and Environmental Reviews, Office of New Reactors.

[FR Doc. 2010-12372 Filed 5-21-10; 8:45 am]

BILLING CODE 7590-01-P